DEPARTMENT OF EDUCATION

Applications for New Awards; Charter Schools Program (CSP) Grants to Non-State Educational Agency (Non-SEA) Eligible Applicants for Planning, Program Design, and Initial Implementation and for Dissemination

AGENCY: Office of Innovation and Improvement, Department of Education.

ACTION: Notice.

Overview Information:

CSP Grants to Non-SEA Eligible Applicants for Planning, Program Design, and Initial Implementation and for Dissemination

Notice inviting applications for new awards for fiscal year (FY) 2013.

Catalog of Federal Domestic Assistance (CFDA) Numbers: 84.282B and 84.282C.

Dates:

Applications Available: June 11, 2013.

Dates of Pre-Application Webinars (all times are Washington, DC time):

1. June 17, 2013, 3 p.m. to 4:30 p.m.; and

2. June 20, 2013, 11 a.m. to 12:30 p.m.

Deadline for Transmittal of Applications: July 12, 2013.

Deadline for Intergovernmental Review: August 12, 2013.

Full Text of Announcement

I. Funding Opportunity Description

Purpose of Program: The purpose of the CSP is to increase national understanding of the charter school model by expanding the number of high-quality charter schools available to students across the Nation; providing financial assistance for the planning, program design, and initial implementation of charter schools; and evaluating the effects of charter schools, including their effects on students, student academic achievement, staff, and parents.

This notice inviting applications (NIA) announces competitions for two different grants: (1) Planning, Program Design, and Initial Implementation; and (2) Dissemination. Each grant has different purposes, eligibility requirements, and selection criteria. Information pertaining to each grant will be outlined in subsequent sections.

Non-SEA eligible applicants are those that are qualified to participate based on requirements set forth in this NIA. Non-SEA eligible applicants in States in which the SEA does not have an approved application under the CSP may receive grants directly from the Secretary for either planning, program design, and initial implementation of charter schools or to carry out dissemination activities. States with approved CSP applications are Arizona, Arkansas, California, Colorado, District of Columbia, Florida, Georgia, Indiana, Massachusetts, Michigan, Minnesota, Missouri, New Hampshire, New Jersey, New York, Rhode Island, South Carolina, Tennessee, Texas, and Wisconsin.

Non-SEA eligible applicants that propose to use grant funds for planning, program design, and initial implementation of charter schools must apply under CFDA number 84.282B. Non-SEA eligible applicants that request funds for dissemination activities must apply under CFDA number 84.282C.

Priorities: This notice includes one absolute priority and three competitive preference priorities. The absolute priority and competitive preference priorities are from the notice of final supplemental priorities and definitions for discretionary grant programs published in the Federal Register on December 15, 2010 (75 FR 78486), and corrected on May 12, 2011 (76 FR 27637).

Background:

The absolute and competitive preference priorities focus this competition on assisting educationally disadvantaged students and other students—specifically students attending high-poverty schools, students in rural areas, students with disabilities, English Learners, and military-connected students—in meeting State academic content standards and State student academic achievement standards.

All charter schools receiving CSP funds, as outlined in section 5210(1)(G) of the Elementary and Secondary Education Act of 1965, as amended (ESEA), must comply with various non-discrimination laws, including the Age Discrimination Act of 1975, title VI of the Civil Rights Act of 1964, title IX of the Education Amendments of 1972, section 504 of the Rehabilitation Act of 1973, part B of the Individuals with Disabilities Education Act (i.e., rights afforded to students and their parents with disabilities), and applicable State laws. The Department is particularly interested in encouraging charter schools to develop and implement innovative strategies to meet the needs of educationally disadvantaged students and other students.

In particular, recent reports have indicated that charter schools may be serving students with disabilities and English Learners at a lower rate than traditional public schools.¹

¹ General Accountability Office. June 2012. “Additional Federal Attention Needed to Help Protect Access for Students with Disabilities”. http://www.gao.gov/assets/600/591435.pdf.

The Secretary also recognizes that military-connected students often face distinctive obstacles in the way of receiving a high-quality education due to such factors as significant parental absence and frequent relocations.²

² The White House. January 2011. “Strengthening Our Military Families: Meeting America's Commitment. www.defense.gov/home/features/2011/0111_initiative/strengthening_our_military_january_2011.pdf

In addition, the Department understands that rural schools confront their own unique challenges and seeks to encourage rural education leaders to use charter schools, as appropriate, as part of their overall school improvement efforts.

Lastly, recent studies have indicated that charter schools may be less racially diverse than traditional public schools.³ Given research showing that all students benefit from attending a school with a diverse student body,⁴ the Department is interested in supporting charter schools that explicitly focus on creating and maintaining a diverse student body (See Competitive Preference Priority 2 (Promoting Diversity) and the accompanying note).

³ Frankenberg, E., Siegel-Hawley, G., and Wang, J. January 2010. “Choice without Equity: Charter School Segregation and the Need for Civil Rights Standards” http://civilrightsproject.ucla.edu/research/k-12-education/integration-and-diversity/choice-without-equity-2009-report/frankenberg-choices-without-equity-2010.pdf

⁴ Mickelson, Roslyn A. & Bottia, Martha (2010). Integrated Education and Mathematics Outcomes: A Synthesis of Social Science Research. North Carolina Law Review, Vol. 88(3), pp. 993-1090; National Academy of Education. Race Conscious Policies for Assigning Students to Schools. Social Science Research and Supreme Court Cases. (2007). http://nepc.colorado.edu/files/Brief-NAE.pdf.

The absolute priority and all of the competitive preference priorities are intended to encourage applicants to develop innovative projects designed to eliminate achievement gaps between the subgroups described in this notice and the highest-achieving subgroups in their States.

Absolute Priority: For FY 2013 and any subsequent year in which we make awards from the list of unfunded applicants from this competition, this priority is an absolute priority. Under 34 CFR 75.105(c)(3) we consider only applications that meet this priority.

This priority is:

Improving Achievement and High School Graduation Rates [High-Poverty]. Accelerating learning and helping to improve high school graduation rates (as defined in this notice) and college enrollment rates in high-poverty schools (as defined in this notice).

Note: To meet this priority, an applicant demonstrating that it is a high poverty school (as defined in this notice) or, in the case of a charter school that has not yet enrolled students, will target for enrollment students from low-income families as determined using one of the criteria specified under section 1113(a)(5) of the ESEA.

Similarly, to meet this priority, an applicant for a dissemination grant under CFDA number 84.282C must provide enrollment data demonstrating that at least 50 percent of its students are from low-income families as determined using one of the criteria specified under section 1113(a)(5) of the ESEA.

Applications approved for funding must meet the absolute priority throughout the performance period.

Competitive Preference Priorities: For FY 2013 and any subsequent year in which we make awards from the list of unfunded applicants from this competition, these priorities are competitive preference priorities. Under 34 CFR 75.105(c)(2)(i) we will award up to an additional four points to an application depending on how well the application meets Competitive Preference Priority 1, up to an additional two points to an application depending on how well the application meets Competitive Preference Priority 2, and up to an additional three points to an application depending on how well the application meets Competitive Preference Priority 3. The maximum number of points an application can receive under these priorities is nine.

Note: In order to be eligible to receive points under these competitive preference priorities, the applicant must identify the priority or priorities that it believes it meets, provide a detailed explanation of how the project meets the priority, and provide documentation supporting its claims.

These priorities are:

Competitive Preference Priority 1—Improving Achievement and High School Graduation Rates [Rural Students, Students with Disabilities, and English Learners] (up to 4 points).

This priority is for projects that are designed to address one or more of the following priority areas:

(a) Accelerating learning and helping to improve high school graduation rates (as defined in this notice) and college enrollment rates for students in rural local educational agencies (as defined in this notice).

(b) Accelerating learning and helping to improve high school graduation rates (as defined in this notice) and college enrollment rates for students with disabilities.

(c) Accelerating learning and helping to improve high school graduation rates (as defined in this notice) and college enrollment rates for English Learners.

Note: This competitive preference priority encourages the applicant to provide a thoughtful, in-depth response to the priority area(s) to which it is well-suited to respond. Applicants will receive up to four points for how well they address priority areas (a) through (c). Applicants may choose to respond to one, two, or three of the priority areas but, in order to receive the maximum available points, it is not necessary for applicants to respond to more than one priority area.

Competitive Preference Priority 2—Promoting Diversity (up to 2 points).

Projects that are designed to promote student diversity, including racial and ethnic diversity, or avoid racial isolation.

Note: An applicant addressing Competitive Preference Priority 2—Promoting Diversity is invited to discuss how the proposed design of its project would help bring together students from different backgrounds, including students from different racial and ethnic backgrounds, to attain the benefits that flow from a diverse student body, or to avoid racial isolation.

Note: For information on permissible ways to address this priority, please refer to the joint guidance issued by the Department of Education and the Department of Justice entitled, “Guidance on the Voluntary Use of Race to Achieve Diversity and Avoid Racial Isolation in Elementary and Secondary Schools” at http://www2.ed.gov/about/offices/list/ocr/docs/guidance-ese-201111.pdf.

Competitive Preference Priority 3—Support for Military Families (up to 3 points).

This priority is for projects that are designed to address the needs of military-connected students (as defined in this notice).

Note: For purposes of this program, projects meeting this priority must target military-connected students who are current or prospective public charter school students. The applicant's recruitment and admissions policy must comply with its State charter school law and CSP program requirements (for information on admissions and the lottery under the CSP, see “Charter Schools Program Nonregulatory Guidance” at http://www2.ed.gov/programs/charter/nonregulatory-guidance.html).

Definitions

The following definitions are from the notice of final supplemental priorities and definitions for discretionary grant programs, published in the Federal Register on December 15, 2010 (75 FR 78486), and corrected on May 12, 2011 (76 FR 27637), and apply to this competition.

1. Graduation rate means a four-year adjusted cohort graduation rate consistent with 34 CFR 200.19(b)(1) and may also include an extended-year adjusted cohort graduation rate consistent with 34 CFR 200.19(b)(1)(v) if the State in which the proposed project is implemented has been approved by the Secretary to use such a rate under Title I of the ESEA.

2. High-poverty school means a school in which at least 50 percent of students are eligible for free or reduced-price lunches under the Richard B. Russell National School Lunch Act or in which at least 50 percent of students are from low-income families as determined using one of the criteria specified under section 1113(a)(5) of the ESEA. For middle and high schools, eligibility may be calculated on the basis of comparable data from feeder schools. Eligibility as a high-poverty school under this definition is determined on the basis of the most currently available data.

3. Military-connected student means: (a) a child participating in an early learning program, a student in preschool through grade 12, or a student enrolled in postsecondary education or training who has a parent or guardian on active duty in the uniformed services (as defined by 37 U.S.C. 101, in the Army, Navy, Air Force, Marine Corps, Coast Guard, National Guard, or the reserve component of any of the aforementioned services) or (b) a student who is a veteran of the uniformed services, who is on active duty, or who is the spouse of an active-duty service member.

4. Rural local educational agency means a local educational agency (LEA) that is eligible under the Small Rural School Achievement (SRSA) program or the Rural and Low-Income School (RLIS) program authorized under Title VI, Part B of the ESEA. Eligible applicants may determine whether a particular LEA is eligible for these programs by referring to information on the Department's Web site at http://www2.ed.gov/nclb/freedom/local/reap.html.

Requirements: Applicants approved for funding under this competition must attend an in-person, two-day meeting for project directors during each year of the project.

Note: The applicant is encouraged to include the cost of attending this meeting in its proposed budgets.

Program Authority: 20 U.S.C. 7221-7221i.

Applicable Regulations: (a) The Education Department General Administrative Regulations (EDGAR) in 34 CFR parts 74, 75, 76, 77, 79, 80, 81, 82, 84, 86, 97, 98, and 99.

(b) The Education Department suspension and debarment regulations in 2 CFR part 3485.

(c) The notice of final supplemental priorities and definitions for discretionary grant programs published in the Federal Register on December 15, 2010 (75 FR 78486), and corrected on May 12, 2011 (76 FR 27637).

Note: The regulations in 34 CFR part 79 apply to all applicants except federally recognized Indian tribes.

Note: The regulations in 34 CFR part 86 apply only to institutions of higher education.

II. Award Information

Type of Award: Discretionary grants.

Estimated Available Funds: $2,000,000.

Contingent upon the availability of funds and quality of applications, we may make additional awards in FY 2014 from the list of unfunded applications from this competition.

Estimated Range of Awards: $140,000 to $200,000 per year.

Estimated Average Size of Awards: $175,000 per year.

Estimated Number of Awards: 10-14.

Note: The Department is not bound by any estimates in this notice.

Project Period: Up to 36 months for planning, program design, and initial implementation grants under CFDA number 84.282B. Up to 24 months for dissemination grants under CFDA number 84.282C.

Note: For planning, program design, and initial implementation grants awarded by the Secretary to non-SEA eligible applicants under CFDA number 84.282B, no more than 18 months may be used for planning and program design and no more than 24 months may be used for the initial implementation of a charter school.

III. Eligibility Information

1. Eligible Applicants:

(a) Planning, Program Design, and Initial Implementation grants (CFDA number 84.282B): A developer that has (1) applied to an authorized public chartering authority to operate a charter school; and (2) provided adequate and timely notice to that authority under section 5203(d)(3) of the ESEA (20 U.S.C. 7221b(d)(3)). In accordance with section 5203(d)(3) of the ESEA, an applicant for a pre-charter planning grant may include, in section V of its application, a request for a waiver from the Secretary of the requirement that the eligible applicant provide its authorized public chartering authority timely notice, and a copy, of its application for CSP funds (20 U.S.C. 7221b(d)(3)).

Note: Section 5210 of the ESEA (20 U.S.C. 7221i(2)) defines “developer” as an individual or group of individuals (including a public or private nonprofit organization), which may include teachers, administrators and other school staff, parents, or other members of the local community in which a charter school project will be carried out. Additionally, the charter school must be located in a State with a State statute specifically authorizing the establishment of charter schools and in which the SEA does not have an application approved under the CSP.

(b) Dissemination grants (CFDA number 84.282C): Charter schools, as defined in section 5210(1) of the ESEA (20 U.S.C. 7221i(1)), that have been in operation for at least three consecutive years and have demonstrated overall success, including—

(1) Substantial progress in improving student academic achievement;

(2) High levels of parent satisfaction; and

(3) The management and leadership necessary to overcome initial start-up problems and establish a thriving, financially viable charter school.

Note: Consistent with section 5204(f)(6) of the ESEA (20 U.S.C. 7221c(f)(6)), a charter school may apply for funds to carry out dissemination activities, whether or not the charter school previously applied for or received funds under the CSP for planning, program design, or implementation.

Note: These competitions (CFDA numbers 84.282B and 84.282C) are limited to eligible applicants in States in which the SEA does not have an approved application under the CSP (or will not have an approved application as of October 1, 2013). The following States currently have approved applications under the CSP: Arizona, Arkansas, California, Colorado, District of Columbia, Florida, Georgia, Indiana, Massachusetts, Michigan, Minnesota, Missouri, New Hampshire, New Jersey, New York, Rhode Island, South Carolina, Tennessee, Texas, and Wisconsin.

Eligible applicants, including charter schools, located in States with currently approved CSP applications that are interested in participating in the CSP should contact the SEA for information related to the State's CSP subgrant competition. Further information is available at http://www2.ed.gov/about/offices/list/oii/csp/funding.html.

2. Cost Sharing or Matching: This program does not require cost sharing or matching.

IV. Application and Submission Information

1. Address to Request Application Package: LaShawndra Thornton, U.S. Department of Education, 400 Maryland Avenue SW., Room 4W257, Washington, DC 20202-5970. Telephone: (202) 453-5617 or by email: lashawndra.thornton@ed.gov.

If you use a telecommunications device for the deaf (TDD) or a text telephone (TTY), call the Federal Relay Service (FRS), toll free, at 1-800-877-8339.

Individuals with disabilities can obtain a copy of the application package in an accessible format (e.g., braille, large print, audiotape, or compact disc) by contacting the program contact person listed in this section.

2.a. Content and Form of Application Submission: Requirements concerning the content of an application, together with the forms you must submit, are in the application package for this competition.

Page Limit: The application narrative (Part III of the application) is where you, the applicant, address the selection criteria that reviewers use to evaluate your application. The Secretary strongly encourages applicants to limit Part III to the equivalent of no more than 50 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The page limit does not apply to Part I, the cover sheet; Part II, the budget section, including the narrative budget justification; Part IV, the assurances and certifications; or the one-page abstract, the resumes, the bibliography, or the letters of support. However, you must include all of the application narrative in Part III.

b. Submission of Proprietary In formation:

Given the types of projects that may be proposed in applications for the CSP Non-SEA Grants for Planning, Program Design, and Initial Implementation and for Dissemination, an application may include business information that the applicant considers proprietary. The Department's regulations define “business information” in 34 CFR 5.11.

Because we plan to make successful applications available to the public, you may wish to request confidentiality of business information.

Consistent with Executive Order 12600, please designate in your application any information that you feel is exempt from disclosure under Exemption 4 of the Freedom of Information Act. In the appropriate Appendix section of your application, under “Other Attachments Form,” please list the page number or numbers on which we can find this information. For additional information please see 34 CFR 5.11(c).

3. Submission Dates and Times:

Applications Available: June 11, 2013.

Date of Pre-Application Webinar: The Department will hold a pre-application Webinar for prospective applicants on the following dates (all times are Washington, DC time):

1. June 17, 2013, 3 p.m. to 4:30 p.m.; and

2. June 20, 2013, 11 a.m. to 12:30 p.m.

Individuals interested in attending one of the Webinars are encouraged to pre-register by emailing their name, organization, contact information, and preferred Webinar date and time with the subject heading NON-SEA PRE-APPLICATION MEETING to Charterschools@ed.gov. There is no registration fee for attending this Webinar.

For further information about the pre-application Webinar, contact LaShawndra Thornton, U.S. Department of Education, 400 Maryland Avenue SW., room 4W257, Washington, DC 20202-5970. Telephone: (202) 453-5617 or by email: lashawndra.thornton@ed.gov.

Deadline for Transmittal of Applications: July 12, 2013.

Applications for grants under this program must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: August 12, 2013.

4. Intergovernmental Review: This competition is subject to Executive Order 12372 and the regulations in 34 CFR part 79. Information about Intergovernmental Review of Federal Programs under Executive Order 12372 is in the application package for this program. Please note that, under 34 CFR 79.8(a), we have shortened the standard 60-day intergovernmental review period in order to make awards by the end of FY 2013.

5. Funding Restrictions:

Use of Funds for Post-Award Planning and Design of the Educational Program and Initial Implementation of the Charter School. A non-SEA eligible applicant receiving a grant under CFDA number 84.282B may use the grant funds only for—

(a) Post-award planning and design of the educational program, which may include (1) refinement of the desired educational results and of the methods for measuring progress toward achieving those results; and (2) professional development of teachers and other staff who will work in the charter school; and

(b) Initial implementation of the charter school, which may include (1) informing the community about the school; (2) acquiring necessary equipment and educational materials and supplies; (3) acquiring or developing curriculum materials; and (4) other initial operational costs that cannot be met from State or local sources. (20 U.S.C. 7221c(f)(3))

Note: CSP funds awarded under CFDA number 84.282B may be used only for the planning and initial implementation of a charter school. As a general matter, the Secretary considers charter schools that have been in operation for more than three years to be past the initial implementation phase and, therefore, ineligible to receive CSP funds to support the initial implementation of a charter school.

Use of Funds for Dissemination Activities. A charter school receiving a grant under CFDA number 84.282C may use grant funds to assist other schools in adapting the charter school's program (or certain aspects of the charter school's program), or to disseminate information about the charter school, through such activities as—

(a) Assisting other individuals with the planning and start-up of one or more new public schools, including charter schools, that are independent of the assisting charter school and the assisting charter school's developers, and that agree to be held to at least as high a level of accountability as the assisting charter school;

(b) Developing partnerships with other public schools, including charter schools, designed to improve student academic achievement in each of the schools participating in the partnership;

(c) Developing curriculum materials, assessments, and other materials that promote increased student achievement and are based on successful practices within the assisting charter school; and

(d) Conducting evaluations and developing materials that document the successful practices of the assisting charter school and that are designed to improve student performance in other schools. (20 U.S.C. 7221c(f)(6))

We reference additional regulations outlining funding restrictions in the Applicable Regulations section in this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The SAM registration process may take seven or more business days to complete. If you are currently registered with the SAM, you may not need to make any changes. However, please make certain that the TIN associated with your DUNS number is correct. Also note that you will need to update your registration annually. This may take three or more business days to complete. Information about SAM is available at SAM.gov.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this competition must be submitted electronically unless you qualify for an exception to this requirement in accordance with the instructions in this section.

a. Electronic Submission of Applications.

Applications for grants under the CSP, CFDA Numbers 84.282B and 84.282C, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the CSP at www.Grants.gov. You must search for the downloadable application package for this program by the CFDA number. Do not include the CFDA number's alpha suffix in your search (e.g., search for 84.282, not 84.282B or 282C).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: LaShawndra Thornton, U.S. Department of Education, 400 Maryland Avenue SW., Room 4W257, Washington, DC 20202-5970. FAX: (202) 205-5630.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.282B or 84.282C), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.282B or 84.282C), 550 12th Street SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Application Requirements. An applicant applying for CSP grant funds, under either CFDA number 84.282B or 84.282C, must address the following application requirements, which are based on section 5203(b) of the ESEA (20 U.S.C. 7221b(b)), as well as the applicable selection criteria in this notice, and may choose to respond to the application requirements in the context of its responses to the selection criteria.

(a) Describe the educational program to be implemented by the proposed charter school, including how the program will enable all students to meet challenging State student academic achievement standards, the grade levels or ages of children to be served, and the curriculum and instructional practices to be used;

Note: An applicant proposing to operate a single-sex charter school should include in its application a detailed description of how it is complying with applicable nondiscrimination laws, including the Equal Protection Clause of the U.S. Constitution (as interpreted in United States v. Virginia, 518 U.S. 515 (1996) and other cases) and Title IX of the Education Amendments of 1972 (20 U.S.C. 1681 et seq.) and its regulations, including 34 CFR 106.34(c). Specifically, the applicant should provide a written justification for a proposed single-sex charter school that explains: (1) How the single-sex program charter school is based on an important governmental objective(s); and (2) how the single-sex nature of the charter school is substantially related to the stated objective(s). An applicant proposing to operate a single-sex charter school that is part of an LEA and not a single-school LEA under State law, should also provide (1) information about whether there is or are a substantially equal single-sex school(s) for students of the excluded sex, and, if so, a detailed description of both the proposed single-sex charter school and the substantially equal single-sex school(s) based on the factors in 34 CFR 106.34(c)(3); and, (2) information about whether there is or are a substantially equal coeducational school(s) for students of the excluded sex, and, if so, a detailed description of both the proposed single-sex charter school and the substantially equal coeducational school(s) based on the factors in 34 CFR 106.34(c)(3).

(b) Describe how the charter school will be managed;

(c) Describe the objectives of the charter school and the methods by which the charter school will determine its progress toward achieving those objectives;

(d) Describe the administrative relationship between the charter school and the authorized public chartering agency;

(e) Describe how parents and other members of the community will be involved in the planning, program design, and implementation of the charter school;

(f) Describe how the authorized public chartering agency will provide for continued operation of the charter school once the Federal grant has expired, if that agency determines that the charter school has met its objectives as described in paragraph (c) of this section;

(g) If the charter school desires the Secretary to consider waivers under the authority of the CSP, include a request and justification for waivers of any Federal statutory or regulatory provisions that the applicant believes are necessary for the successful operation of the charter school, and a description of any State or local rules, generally applicable to public schools, that will be waived for, or otherwise not apply to, the school. Each applicant for a planning, program design, and initial implementation grant under CFDA number 84.282B—that is requesting a waiver of the requirement under section 5203(d)(3) of the ESEA (20 U.S.C. 7221b(d)(3)) to provide its authorized public chartering agency with notice, and a copy, of its CSP application—should indicate whether it has applied for a charter previously and, if so, the name of the authorized public chartering authority and the disposition of the charter application;

(h) Describe how the grant funds will be used, including a description of how these funds will be used in conjunction with other Federal programs administered by the Secretary;

(i) Describe how students in the community will be informed about the charter school and be given an equal opportunity to attend the charter school;

Note: The applicant should provide a detailed description of its recruitment and admissions policies and practices, including a description of the lottery it plans to employ if more students apply for admission than can be accommodated. The applicant also should describe any plans to use a weighted lottery or to exempt certain categories of students from the lottery and how these plans are consistent with State law, the CSP authorizing statute, and CSP Nonregulatory Guidance (for information related to the lottery requirement under the CSP, please see Section E of the CSP Nonregulatory Guidance at http://www2.ed.gov/programs/charter/nonregulatory-guidance.html).

(j) Describe how a charter school that is considered an LEA under State law, or an LEA in which a charter school is located, will comply with sections 613(a)(5) and 613(e)(1)(B) of the Individuals with Disabilities Education Act (IDEA)(for additional information on IDEA, please see http://idea.ed.gov/explore/view/p/%2Croot%2Cstatute%2CI%2CB%2C613%2C); and

(k) If the eligible applicant desires to use grant funds for dissemination activities under section 5202(c)(2)(c) of the ESEA (20 U.S.C 7221a(c)(2)(C)), describe those activities and how those activities will involve charter schools and other public schools, LEAs, developers, and potential developers.

2. Selection Criteria: The selection criteria for this competition are from 20 U.S.C. 7221b and 7221c and 34 CFR 75.210 of EDGAR.

The selection criteria for applicants submitting applications under CFDA number 84.282B are listed in paragraph (a) of this section, and the selection criteria for applicants submitting applications under CFDA number 84.282C are listed in paragraph (b) of this section.

(a) Selection Criteria for Planning, Program Design, and Initial Implementation Grants (CFDA number 84.282B). The following selection criteria are based on sections 5203, 5204, and 5210 of the ESEA (20 U.S.C. 7221b, 7221c, and 7221i) and 34 CFR 75.210 of EDGAR. The maximum possible score for addressing all of the criteria in this section is 100 points. The maximum possible score for addressing each criterion is indicated in parentheses following the criterion. In evaluating an application for a planning, program design, and implementation grant, the Secretary considers the following criteria:

(1) Quality of the proposed curriculum and instructional practices (20 U.S.C. 7221c(b)(1)) (up to 15 points).

Note: The Secretary encourages the applicant to describe the quality of the educational program to be implemented by the proposed charter school, including how the program will enable all students to meet challenging State student academic achievement standards, the grade levels or ages of students to be served, and the curriculum and instructional practices to be used. If the curriculum and instructional practices have been successfully used in other schools operated or managed by the applicant, the Secretary encourages the applicant to describe the implementation of such practices and the academic results achieved.

(2) The extent to which the proposed project will assist educationally disadvantaged students in meeting State academic content standards and State student academic achievement standards (20 U.S.C. 7221c(a)(1)) (up to 3 points).

(3) The quality of the strategy for assessing achievement of the charter school's objectives (20 U.S.C. 7221c(a)(4)) (up to 15 points).

(4) The extent of community support and parental and community involvement (20 U.S.C. 7221c(b)(3); 20 U.S.C. 7221b(b)(3)(E)) (up to 8 points).

The Secretary considers the extent of community support for and parental and community involvement in, the charter school. In determining the extent of community support for, and parental and community involvement in, the charter school, the Secretary considers—

(i) The extent of community support for the application (up to 4 points); and

(ii) The extent to which the proposed project encourages parental and community involvement in the planning, program design, and implementation of the charter school (up to 4 points).

Note: In describing the extent to which the proposed project encourages parental and community involvement in the charter school, the Secretary encourages the applicant to describe how parents and other members of the community will be informed about the charter school and how students will be given an equal opportunity to attend the charter school.

(5) Quality of project personnel (34 CFR 75.210(e)(1), (e)(2), and (e)(3)(ii)) (up to 22 points).

The Secretary considers the quality of the personnel who will carry out the proposed project. In determining the quality of project personnel, the Secretary considers—

(i) The extent to which the applicant encourages applications for employment from persons who are members of groups that have traditionally been underrepresented based on race, color, national origin, gender, age, or disability (up to 2 points); and

(ii) The qualifications, including relevant training and experience, of key project personnel (up to 20 points).

Note: The applicant is encouraged to provide evidence of the key project personnel's skills and experience in the following areas: successfully launching a high-quality charter school; developing an innovative school design; relevant non-profit organization management and leadership; sound board governance; effective curriculum development and implementation; and strong fiscal management.

(6) Quality of the management plan (34 CFR 75.210(g)(1) and (g)(2)(i)) (up to 18 points). The Secretary considers the quality of the management plan for the proposed project. In determining the quality of the management plan for the proposed project, the Secretary considers the adequacy of the management plan to achieve the objectives of the proposed project on time and within budget, including clearly defined responsibilities, timelines, and milestones for accomplishing project tasks.

(7) Existence and quality of a charter or performance contract between the charter school and its authorized public chartering agency (20 U.S.C. 7221i(1)(L)) (up to 16 points). The existence of a written charter or performance contract between the charter school and its authorized public chartering agency and the extent to which the charter or performance contract describes how student performance will be measured in the charter school pursuant to State assessments that are required of other schools and pursuant to any other assessments mutually agreeable to the authorized public chartering agency and the charter school.

Note: The applicant is encouraged to submit a copy of its approved charter or performance contract. If the applicant has had an application for a charter denied, the applicant should describe the circumstances surrounding such denial and how it plans to revise the charter application before resubmitting it to the authorized public chartering agency.

(8) The degree of flexibility afforded by the SEA and, if applicable, the LEA to the charter school (20 U.S.C. 7721c(b)(2)) (up to 3 points).

Note: The Secretary encourages the applicant to describe the flexibility afforded under its State's charter school law in terms of establishing an administrative relationship between the charter school and the authorized public chartering agency, and whether charter schools are exempt from significant State or local rules that inhibit the flexible operation and management of public schools.

The Secretary also encourages the applicant to include a description of the degree of autonomy the charter school will have over such matters as the charter school's budget, expenditures, daily operations, and personnel in accordance with its State's charter school law.

(b) Selection Criteria for Dissemination Grants (CFDA number 84.282C). The following selection criteria are based on sections 5204 and 5210(1)(L) of the ESEA (20 U.S.C. 7221c and 7221i(1)(L)) and from 34 CFR 75.210 of EDGAR. The maximum possible score for addressing all the criteria in this section is 100 points. The maximum possible score for addressing each criterion is indicated in parentheses following the criterion. In evaluating an application for a dissemination grant, the Secretary considers the following criteria:

(1) The quality of the proposed dissemination activities and the likelihood that those activities will improve student achievement (20 U.S.C. 7221c(b)(7)) (up to 15 points).

Note: The Secretary encourages the applicant to describe the objectives for the proposed dissemination activities and the methods by which the charter school will determine its progress toward achieving those objectives.

(2) Existence of a charter or performance contract between the charter school and its authorized public chartering agency (20 U.S.C. 7221i(1)(L)) (up to 1 point). The existence of a written charter or performance contract between the charter school and its authorized public chartering agency and how the charter or performance contract requires student performance to be measured in the charter school pursuant to State assessments that are required of other schools and pursuant to any other assessments mutually agreeable to the authorized public chartering agency and the charter school.

(3) Demonstration of success (20 U.S.C. 7221c(f)(6)(A)) (up to 40 points). The extent to which the school has demonstrated overall success, including—

(i) Substantial progress in improving student academic achievement (up to 25 points);

(ii) High levels of parent satisfaction (up to 5 points); and

(iii) The management and leadership necessary to overcome initial start-up problems and establish a thriving, financially viable charter school (up to 10 points).

Note: The Secretary encourages the applicant to provide performance data (both school-wide and by subgroup) for the past three years on State assessments as compared to all students in other schools in the State at the same grade level, and as compared to other schools serving similar populations of students (while maintaining the appropriate standards that protect personally identifiable information).

The Secretary also encourages the applicant to provide its most recent State Report Card.

(4) Dissemination strategy (34 CFR 75.210(b)(2)(xii)) (up to 15 points). The Secretary considers the significance of the proposed project. In determining the significance of the proposed project, the Secretary considers the extent to which the results of the proposed project are to be disseminated in ways that will enable others to use the information or strategies.

(5) Quality of project personnel (34 CFR 75.210(e)(1), (e)(2), and (e)(3)(i)) (up to 14 points). The Secretary considers the quality of the personnel who will carry out the proposed project. In determining the quality of project personnel, the Secretary considers—

(i) The extent to which the applicant encourages applications for employment from persons who are members of groups that have traditionally been underrepresented based on race, color, national origin, gender, age, or disability (up to 3 points); and

(ii) The qualifications, including relevant training and experience, of the project director or principal investigator (up to 11 points).

(6) Quality of the management plan (34 CFR 75.210 (g)(1) and (g)(2)(i)) (up to 15 points). The Secretary considers the quality of the management plan for the proposed project. In determining the quality of the management plan for the proposed project, the Secretary considers the adequacy of the management plan to achieve the objectives of the proposed project on time and within budget, including clearly defined responsibilities, timelines, and milestones for accomplishing project tasks.

3. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances, including those applicable to Federal civil rights laws that prohibit discrimination in programs or activities receiving Federal financial assistance from the Department of Education (34 CFR 100.4, 104.5, 106.4, 108.8, and 110.23).

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN), or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: The goal of the CSP is to support the creation and development of a large number of high-quality charter schools that are free from State or local rules that inhibit flexible operation, are held accountable for enabling students to reach challenging State performance standards, and are open to all students. The Secretary has two performance indicators to measure progress toward this goal: (1) The number of charter schools in operation around the Nation, and (2) the percentage of fourth- and eighth-grade charter school students who are achieving at or above the proficient level on State examinations in mathematics and reading/language arts. Additionally, the Secretary has established the following measure to examine the efficiency of the CSP: Federal cost per student in implementing a successful school (defined as a school in operation for three or more consecutive years).

All grantees must submit an annual performance report with information that is responsive to these performance measures.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

For Further Information Contact: LaShawndra Thornton, U.S. Department of Education, 400 Maryland Avenue SW., room 4W257, Washington, DC 20202-5970. Telephone: (202) 453-5617 or by email: lashawndra.thornton@ed.gov.

If you use a TDD or a TTY, call the FRS, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 6, 2013.
Nadya Chinoy Dabby,
Acting Assistant Deputy Secretary for Innovation and Improvement.

[FR Doc. 2013-13846 Filed 6-10-13; 8:45 am]

BILLING CODE 4000-01-P